FEDERAL ACCOUNTING STANDARDS ADVISORY BOARD

Notice of Availability of Two New Exposure Drafts

AGENCY: Federal Accounting Standards Advisory Board.

ACTION: Notice of Two New Exposure Drafts Auditing Estimates for Direct Loan and Loan Guarantee Subsidies Under the Federal Credit Reform Act (Amendments to Technical Release 3: Preparing and Auditing Direct Loan and Loan Guarantee Subsidies Under the Federal Credit Reform Act) and Preparing Estimates for Direct Loan and Loan Guarantee Subsidies Under the Federal Credit Reform Act (Amendments to Technical Release 3: Preparing and Auditing Direct Loan and Loan Guarantee Subsidies Under the Federal Credit Reform Act).

Board Action: Pursuant to the Federal Advisory Committee Act (Pub. L. No. 92-463), as amended, section 10(a)(2), and the FASAB Rules of Procedure, as amended in October, 1999, notice is hereby given that the Accounting and Auditing Policy Committee has published two new exposure drafts, Auditing Estimates for Direct Loan and Loan Guarantee Subsidies Under the Federal Credit Reform Act (Amendments to Technical Release 3: Preparing and Auditing Direct Loan and Loan Guarantee Subsidies Under the Federal Credit Reform Act) and Preparing Estimates for Direct Loan and Loan Guarantee Subsidies Under the Federal Credit Reform Act (Amendments to Technical Release 3: Preparing and Auditing Direct Loan and Loan Guarantee Subsidies Under the Federal Credit Reform Act)

A summary of the proposed Statements follows: The purpose of proposed Technical Release 3 is to amend the guidance for auditors to audit credit subsidy estimates provided in the original technical release (July 1999). The most significant changes made in this amended TR3 are (1) the removal of the preparation guidance from this amended TR to only include the audit guidance and (2) procedural changes updating the document to reflect new guidance and changes in terminology in the area of credit reform (e.g., SFFAS 18 & 19; and OMB Circular A-11).

The purpose of proposed Technical Release 6 is to amend the implementation guidance for agencies to prepare and report credit subsidy estimates provided in the original technical release (July 1999). The most significant changes made between the original TR3 and this amended TR are (1) the removal of the audit guidance from this amended TR to only include the preparation guidance; (2) clarification of OMB's role in the credit subsidy estimation and re-estimation process; and (3) credit subsidy re-estimates may now include 6 months of actual data and 6 months of projected estimates.

Respondents are encouraged to comment on any part of the exposure drafts. Written comments are requested by October 5, 2003, and should be sent to: Wendy M. Comes, Executive Director, Federal Accounting Standards Advisory Board, 441 G Street, NW., Suite 6814, Washington, DC 20548.

Copies of the Exposure Drafts can be obtained by contacting FASAB at 202-512-7350 or valentinem@fasab.gov. Additionally, the Exposure Drafts will be available on FASAB's home page http://www.fasab.gov/.

FOR FURTHER INFORMATION CONTACT: Wendy Comes, Executive Director, 441 G Street, NW., Mail Stop 6K17V, Washington, DC 20548, or call (202) 512-7350.

Authority: Federal Advisory Committee Act. Pub. L. No. 92-463.

Dated: September 5, 2003.
Wendy M. Comes,
Executive Director.

[FR Doc. 03-23112 Filed 9-10-03; 8:45 am]

BILLING CODE 1610-01-M